DEPARTMENT OF ENERGY

Federal Energy Regulatory Commission

18 CFR Part 284

[Docket No. RM15-19-000]

Petition for a Rulemaking of the Liquids Shippers Group, Airlines for America, and the National Propane Gas Association

AGENCY: Federal Energy Regulatory Commission, DOE.

ACTION: Notice organizing conference.

SUMMARY: In this notice, the Federal Energy Regulatory Commission (Commission) provides information organizing the technical conference to be held on July 30, 2015, to discuss issues raised by the petition for rulemaking. The petition for rulemaking is requesting that the Commission issue a Notice of Proposed Rulemaking (NOPR) requiring changes to the FERC Form No. 6 (Annual Report of Oil Pipeline Companies), Page 700.

DATES: The technical conference will be held on July 30, 2015 between 9 a.m. and 1 p.m. (Eastern Time). Following the technical conference, the Commission will consider post-technical conference comments submitted on or before September 25, 2015. Reply comments are due on or before October 30, 2015. The written comments will be included in the formal record of the proceeding.

ADDRESSES: The July 30, 2015 conference will be held at the Commission's headquarters at 888 First Street NE., Washington, DC 20426, between 9 a.m. and 1 p.m. (Eastern Time) in the Commission Meeting Room.

FOR FURTHER INFORMATION CONTACT:

Technical Contact:

Adrianne Cook, Office of Energy Market Regulation, Federal Energy Regulatory Commission, 888 First Street NE., Washington, DC 20426, Adrianne.Cook@ferc.gov., (202) 502-8849

Legal Contacts:

David Faerberg, Office of the General Counsel, Federal Energy Regulatory Commission, 888 First Street NE., Washington, DC 20426, David.Faerberg@ferc.gov., (202) 502-8275

Rekha Chandrasekher, Office of the General Counsel,Federal Energy Regulatory Commission, 888 First Street NE., Washington, DC 20426, Rekha.Chandrasekher@ferc.gov., (202) 502-8865

SUPPLEMENTARY INFORMATION:

Notice Organizing Conference

On April 20, 2015, the Liquids Shippers Group, Airlines for America and the National Propane Gas Association (Joint Petitioners) filed a Petition for Rulemaking requesting that the Commission issue a Notice of Proposed Rulemaking (NOPR) requiring changes to the FERC Form No. 6 (Annual Report of Oil Pipeline Companies), Page 700.

On June 30, 2015, the Commission issued a notice announcing the Commission will hold a technical conference on July 30, 2015 to discuss issues raised by the Petition for Rulemaking, and solicited interested speakers.

The July 30, 2015 conference will be held at the Commission's headquarters at 888 First Street NE., Washington, DC 20426, between 9 a.m. and 1 p.m. (Eastern Time) in the Commission Meeting Room. The technical conference will be led by Commission staff and may be attended by one or more Commissioners.

The technical conference will consist of two sessions and focus on the issues raised in the Petition for Rulemaking. The appendix to this notice contains questions or issues to be addressed by panelists.

9 a.m.-9:15 a.m. Opening Remarks

9:15 a.m.-10:15 a.m. Legal/Policy Perspective: Prepared Presentations (10 minutes each)

Steven A. Adducci, Venable LLP, on behalf of Valero Marketing and Supply Company

Matthew Corcoran, Goldstein & Associates, P.C., on behalf of Tesoro Refining & Marketing Company LLC

Douglas F. John, John & Hengerer, on behalf of Liquids Shippers Group

Steven M. Kramer, Association of Oil Pipe Lines

Richard E. Powers, Jr., Venable LLP, on behalf of Airlines for America and National Propane Gas Association

Daniel J. Poynor, Steptoe & Johnson LLP, on behalf of Association of Oil Pipe Lines

10:15 a.m.-10:55 a.m. Legal/Policy Dialogue (40 minutes)

10:55 a.m.-11:05 a.m. Break

11:05 a.m.-12:05 p.m. Technical Perspective: Prepared Presentations (12 minutes each)

Steve A. Adducci, Venable LLP, on behalf of Valero Marketing and Supply Company

Dr. Daniel S. Arthur, The Brattle Group, on behalf of Airlines for America and National Propane Gas Association

Peter K. Ashton, Premier Quantitative Consulting, Inc., on behalf of Tesoro Refining & Marketing Company LLC

Kenneth A. Sosnick, Pendulum Energy, on behalf of Liquids Shippers Group

Robert G. Van Hoecke, Regulatory Economics Group, on behalf of Association of Oil Pipe Lines

12:05 p.m.-12:45 p.m. Technical Dialogue (40 minutes)

12:45 p.m.-1 p.m. Closing Remarks

Following the technical conference, the Commission will consider post-technical conference comments submitted on or before September 25, 2015. Reply comments are due on or before October 30, 2015. The written comments will be included in the formal record of the proceeding.

The technical conference will be transcribed. Transcripts of the technical conference will be available for a fee from Ace-Federal Reporters, Inc. ((202) 347-3700 or 1 (800) 336-6646). There will be a free webcast of the conference. The webcast will allow persons to listen to the technical conference, but not participate. Anyone with Internet access can listen to the conference by navigating to the Calendar of Events at www.ferc.gov and locating the technical conference in the Calendar. The technical conference will contain a link to its webcast. The Capital Connection provides technical support for the webcast and offers the option of listing to the meeting via phone-bridge for a fee. If you have any questions, please visit www.CapitolConnection.org or call 703-993-3100.¹

¹ The webcast will continue to be available on the Calendar of Events on the Commission's Web site www.ferc.gov for three months after the conference.

Advance registration is highly encouraged for all attendees. Attendees may register in advance at the following Web page: https://www.ferc.gov/whats-new/registration/07-30-15-form.asp. Attendees should allow time to pass through building security procedures before the 9 a.m. (Eastern Time) start time of the technical conference. In addition, information on this event will be posted on the Calendar of Events on the Commission's Web site, www.ferc.gov, prior to the event.

Commission conferences are accessible under section 508 of the Rehabilitation Act of 1973. For accessibility accommodations please send an email to accessibility@ferc.gov or call toll free 1-866-208-3372 (voice) or 202-502 -8659 (TTY); or send a fax to 202-208-2106 with the required accommodations.

For more information about this technical conference, please contact Sarah McKinley, 202-502-8368, sarah.mckinley@ferc.gov.

Dated: July 23, 2015.
Kimberly D. Bose,
Secretary.

Appendix: Questions To Address

—How should segments be defined for purposes of disaggregation?

—Are there scenarios in which pipelines should be required to file disaggregated information and scenarios in which they should not? List specific scenarios.

—What would be the additional cost to report disaggregated information on the Form 6 page 700?

—What are the potential benefits of requiring disaggregated information?

—Do pipelines currently track their revenues and operating expenses by segment?

—If pipelines are required to provide cost information by segments, should they also be required to provide volumes and revenues by segments?

—What allocation methods do pipelines use to determine the share of overhead and shared costs associated with each segment? Would this have to change if the information is broken down by segment, and if so, how?

—What, if any, are the drawbacks of the current process of providing workpapers to parties once a proceeding has been initiated?

—In addition to shippers, which “interested persons” should be entitled to request workpapers?

—How frequently should shippers and other interested persons be entitled to access workpapers?

—Do workpapers need to be provided in electronic form to be useful? Should the Commission standardize the manner in which workpapers are presented?

—What process and protections should be required in connection with making workpapers available on request?

—What additional costs are associated with making workpapers available upon request as compared to the current process of making them available once a trial-type hearing has been initiated?

[FR Doc. 2015-18837 Filed 7-30-15; 8:45 am]

BILLING CODE 6717-01-P